DEPARTMENT OF COMMERCE

National Oceanic and Atmospheric Administration

[RTID 0648-XD060]

Pacific Fishery Management Council; Public Meetings

AGENCY: National Marine Fisheries Service (NMFS), National Oceanic and Atmospheric Administration (NOAA), Commerce.

ACTION: Notice of public meetings.

SUMMARY: The Pacific Fishery Management Council (Pacific Council) and its advisory bodies will meet June 21-27, 2023 in Vancouver, WA and via webinar. The Council meeting will be live streamed with the opportunity to provide public comment remotely.

DATES: The Pacific Council meeting will begin on Thursday, June 22, 2023, at 9 a.m. Pacific Daylight Time (PDT), reconvening at 8 a.m. on Friday, June 23 through Tuesday, June 27, 2023. All meetings are open to the public, except for a Closed Session held from 8 a.m. to 9 a.m., Thursday, June 22, to address litigation and personnel matters. The Pacific Council will meet as late as necessary each day to complete its scheduled business.

ADDRESSES: Meetings of the Pacific Council and its advisory entities will be held at the Hilton Vancouver Washington, 301 W 6th Street, Vancouver, WA; telephone: (360) 993-4500. Specific meeting information, including directions on joining the meeting, connecting to the live stream broadcast, and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Mr. Merrick Burden, Executive Director, Pacific Council; telephone: (503) 820-2418 or (866) 806-7204 toll-free, or access the Pacific Council website, www.pcouncil.org, for the proposed agenda and meeting briefing materials.

SUPPLEMENTARY INFORMATION: The June 21-27, 2023 meeting of the Pacific Council will be streamed live on the internet. The broadcasts begin initially at 9 a.m. PDT Thursday, June 22, 2023, and 8 a.m. PDT Friday, June 23 through Tuesday, June 27, 2023. Broadcasts end when business for the day is complete. Only the audio portion and presentations displayed on the screen at the Pacific Council meeting will be broadcast. The audio portion for the public is listen-only except that an opportunity for oral public comment will be provided prior to Council Action on each agenda item. Additional information and instructions on joining or listening to the meeting can be found on the Pacific Council's website (see www.pcouncil.org).

The following items are on the Pacific Council agenda, but not necessarily in this order. Agenda items noted as “Final Action” refer to actions requiring the Council to transmit a proposed fishery management plan, proposed plan amendment, or proposed regulations to the U.S. Secretary of Commerce, under Sections 304 or 305 of the Magnuson-Stevens Fishery Conservation and Management Act. Additional detail on agenda items, Council action, and advisory entity meeting times, are described in Agenda Item A.3, Proposed Council Meeting Agenda, and will be in the advance June 2023 briefing materials and posted on the Pacific Council website at www.pcouncil.org no later than Friday, June 2, 2023.

A. Call to Order

1. Opening Remarks

2. Roll Call

3. Agenda

4. Executive Director's Report

B. Open Comment Period

1. Comments on Non-Agenda Items

C. Administrative Matters

1. Council Coordination Committee Meeting Update

2. Council and Process Efficiencies

3. Marine Planning Update

4. Legislative Matters

5. Fiscal Matters

6. Approval of Council Meeting Records

7. Membership Appointments and Council Operating Procedures

8. Future Council Meeting Agenda and Workload Planning

D. Habitat Issues

1. Current Habitat Issues

E. Pacific Halibut Management

1. Scoping Topics for Catch Sharing Plan and Regulation Changes

F. Ecosystem Management

1. Fishery Ecosystem Plan Initiative 4—Ecosystem Workgroup Update

G. Coastal Pelagic Species Management

1. National Marine Fisheries Service Report

2. Pacific Mackerel Assessment and Biennial Management Measures—Final Action

3. Essential Fish Habitat Amendment—Final Action

H. Groundfish Management

1. National Marine Fisheries Service Report

2. Sablefish Gear Switching—Initial Preliminary Preferred Alternative

3. Amendment 31 Stock Definitions—Final Action

4. Limited Entry Fixed Gear Follow-On Actions and Fixed Gear Marking—Scoping

5. Electronic Monitoring Implementation Update

6. Groundfish Endangered Species Workgroup Report

7. 2025-2026 Harvest Specifications and Management Measures Planning

8. Inseason Management—Final Action

I. Salmon Management

1. Sacramento River Fall Chinook and Klamath River Fall Chinook Conservation Objectives—Scoping

J. Highly Migratory Species Management

1. National Marine Fisheries Service Report

2. International Management Activities

3. Exempted Fishing Permits—Preliminary

4. Drift Gillnet Bycatch Performance Report

5. Swordfish Fishery Management Workshop—Scoping

Advisory Body Agendas

Advisory body agendas will include discussions of relevant issues that are on the Pacific Council agenda for this meeting and may also include issues that may be relevant to future Council meetings. Proposed advisory body agendas for this meeting will be available on the Pacific Council website, www.pcouncil.org, no later than Friday, June 2, 2023 by the end of the business day.

Schedule of Ancillary Meetings
Day 1—Wednesday, June 21, 2023:
Coastal Pelagic Species Advisory Subpanel | 8 a.m.
Coastal Pelagic Species Management Team | 8 a.m.
Groundfish Advisory Subpanel | 8 a.m.
Groundfish Management Team | 8 a.m.
Habitat Committee | 8 a.m.
Salmon Advisory Subpanel | 8 a.m.
Scientific and Statistical Committee | 8 a.m.
Legislative Committee | 10 a.m.
Budget Committee | 1 p.m.
Enforcement Consultants | 2 p.m.
Day 2—Thursday, June 22, 2023:
California State Delegation | 7 a.m.
Oregon State Delegation | 7 a.m.
Washington State Delegation | 7 a.m.
Coastal Pelagic Species Advisory Subpanel | 8 a.m.
Coastal Pelagic Species Management Team | 8 a.m.
Groundfish Advisory Subpanel | 8 a.m.
Groundfish Management Team | 8 a.m.
Habitat Committee | 8 a.m.
Scientific and Statistical Committee | 8 a.m.
Enforcement Consultants | As Necessary.
Day 3—Friday, June 23, 2023:
California State Delegation | 7 a.m.
Oregon State Delegation | 7 a.m.
Washington State Delegation | 7 a.m.
Groundfish Advisory Subpanel | 8 a.m.
Groundfish Management Team | 8 a.m.
Salmon Technical Team | 8 a.m.
Enforcement Consultants | As Necessary.
Day 4—Saturday, June 24, 2023:
California State Delegation | 7 a.m.
Oregon State Delegation | 7 a.m.
Washington State Delegation | 7 a.m.
Groundfish Advisory Subpanel | 8 a.m.
Groundfish Management Team | 8 a.m.
Highly Migratory Species Advisory Subpanel | 8 a.m.
Highly Migratory Species Management Team | 8 a.m.
Enforcement Consultants | As Necessary.
Day 5—Sunday, June 25, 2023:
California State Delegation | 7 a.m.
Oregon State Delegation | 7 a.m.
Washington State Delegation | 7 a.m.
Groundfish Advisory Subpanel | 8 a.m.
Groundfish Management Team | 8 a.m.
Highly Migratory Species Advisory Subpanel | 8 a.m.
Highly Migratory Species Management Team | 8 a.m.
Enforcement Consultants | As Necessary.
Day 6—Monday, June 26, 2023:
California State Delegation | 7 a.m.
Oregon State Delegation | 7 a.m.
Washington State Delegation | 7 a.m.
Highly Migratory Species Advisory Subpanel | 8 a.m.
Highly Migratory Species Management Team | 8 a.m.
Enforcement Consultants | As Necessary.
Day 7—Tuesday, June 27, 2023:
California State Delegation | 7 a.m.
Oregon State Delegation | 7 a.m.
Washington State Delegation | 7 a.m.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 business days prior to the meeting date.

Authority: 16 U.S.C. 1801 et seq.

Dated: May 30, 2023.
Rey Israel Marquez,
Acting Deputy Director, Office of Sustainable Fisheries, National Marine Fisheries Service.

[FR Doc. 2023-11818 Filed 6-2-23; 8:45 am]

BILLING CODE 3510-22-P